DEPARTMENT OF COMMERCE

International Trade Administration

North American Free-Trade Agreement (NAFTA), Article 1904 Binational Panel Reviews

AGENCY: NAFTA Secretariat, United States Section, International Trade Administration, Department of Commerce.

ACTION: Notice of Decision of Panel.

SUMMARY: On October 6, 2006, the binational panel issued its decision in the full sunset review of the antidumping and countervailing duty determination made by the International Trade Commission, respecting Magnesium from Canada, Secretariat File No. USA-CDA-2000-1904-09. The binational panel affirmed the International Trade Commission determination with two dissenting opinions. Copies of the panel decision are available from the U.S. Section of the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of the final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: The determination is as follows:

The majority opinion stated that “While the Panel had some reasonable concerns about the evidence supporting the Commission's price underselling finding, the totality of the Commission's determination, including its alternative price depression finding, is reasonable, made in accordance with law, and supported by substantial evidence on the record as a whole. Therefore, the second determination on remand is hereby AFFIRMED”.

The minority opinion stated “Having reviewed the Commission Second Remand Determination, the briefs, substantial parts of the Record and the views of the majority, we hold unlawful the Commission's findings as they are unsupported by substantial evidence on the record”.

The panel has directed the Secretary to issue a Notice of Final Panel Action on the 11th day following the issuance of the panel decision.

Dated: October 10, 2006.
Caratina L. Alston,
United States Secretary, NAFTA Secretariat.

[FR Doc. E6-17126 Filed 10-13-06; 8:45 am]

BILLING CODE 3510-GT-P